DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2020, through March 31, 2020. This list provides the name of petitioner, city and state of vaccination (if unknown then city and state of person or attorney filing claim), and case number. In cases where the Court has redacted the name of a petitioner and/or the case number, the list reflects such redaction. Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Kim Warner on behalf of J.W., Nebraska City, Nebraska, Court of Federal Claims No: 20-0233V

2. Cynthia Chism, Selmer, Tennessee, Court of Federal Claims No: 20-0234V

3. Ari Kline, Gaithersburg, Maryland, Court of Federal Claims No: 20-0237V

4. Michelle Horky, Quinton, Virginia, Court of Federal Claims No: 20-0239V

5. Charrie Ann Gibson, Seattle, Washington, Court of Federal Claims No: 20-0243V

6. Deana Tona, Dallas, Texas, Court of Federal Claims No: 20-0244V

7. Chris Hadjiharalambous, Knoxville, Tennessee, Court of Federal Claims No: 20-0245V

8. Erica Supple, Needham, Massachusetts, Court of Federal Claims No: 20-0246V

9. Maris Tippett, Grand Rapids, Michigan, Court of Federal Claims No: 20-0248V

10. Callie Hanft, Sacramento, California, Court of Federal Claims No: 20-0249V

11. Joseph Petruzzi, Berlin, New Jersey, Court of Federal Claims No: 20-0250V

12. Rhonda G. Shepherd, Memphis, Tennessee, Court of Federal Claims No: 20-0251V

13. Leonard Milton Calkins, Lake City, Washington, Court of Federal Claims No: 20-0253V

14. Anne Mishica, Monterey, California, Court of Federal Claims No: 20-0254V

15. Amy J. Pennell on behalf of M.L.P., Hudson, Ohio, Court of Federal Claims No: 20-0257V

16. Divya Poduri on behalf of Y.T., Limerick, Pennsylvania, Court of Federal Claims No: 20-0258V

17. Patricia Stephens, Anniston, Alabama, Court of Federal Claims No: 20-0260V

18. Stephanie Roche, Warwick, New York, Court of Federal Claims No: 20-0262V

19. Helen Pichardo, Orlando, Florida, Court of Federal Claims No: 20-0263V

20. Latisha Fontana, Fayetteville, North Carolina, Court of Federal Claims No: 20-0265V

21. Maureen Higgins-Abato, New York, New York, Court of Federal Claims No: 20-0268V

22. Becky Bright, Decatur, Alabama, Court of Federal Claims No: 20-0269V

23. Frank Weinberg, Abington, Pennsylvania, Court of Federal Claims No: 20-0271V

24. Angelique Renee Koch, Canton, Michigan, Court of Federal Claims No: 20-0272V

25. Lauri Hainsfurther, Dallas, Texas, Court of Federal Claims No: 20-0273V

26. Donna Holcomb, Brandon, Mississippi, Court of Federal Claims No: 20-0274V

27. Kevin Pickard, Levittown, Pennsylvania, Court of Federal Claims No: 20-0276V

28. Renee LaCourse-Burmeister, Green Bay, Wisconsin, Court of Federal Claims No: 20-0277V

29. Andrea Carrier, New London, New Hampshire, Court of Federal Claims No: 20-0278V

30. Diana McKinzy, Raytown, Missouri, Court of Federal Claims No: 20-0279V

31. Cynthia O'Donnell-Bove, Toms River, New Jersey, Court of Federal Claims No: 20-0282V

32. Kimberly F. Flowers, Kennesaw, Georgia, Court of Federal Claims No: 20-0285V

33. Kimberly Salino and Michael Salino on behalf of M. S., Holmdel, New Jersey, Court of Federal Claims No: 20-0289V

34. Usman Amin, Sacramento, California, Court of Federal Claims No: 20-0290V

35. Diane DeSisto, Burlington, Connecticut, Court of Federal Claims No: 20-0291V

36. Shari Hartley, Fort Mill, South Carolina, Court of Federal Claims No: 20-0292V

37. Lisa Asemota, Plantation, Florida, Court of Federal Claims No: 20-0293V

38. Candace Reynolds, Batesville, Mississippi, Court of Federal Claims No: 20-0294V

39. Chris Hempel, Cambridge, Massachusetts, Court of Federal Claims No: 20-0295V

40. Maureen Mulvena, Wilmington, Delaware, Court of Federal Claims No: 20-0296V

41. Linda Stuker, Billings, Montana, Court of Federal Claims No: 20-0298V

42. Donna Smith, Tacoma, Washington, Court of Federal Claims No: 20-0300V

43. Laurianne Russell, Valparaiso, Indiana, Court of Federal Claims No: 20-0301V

44. Janel Viehman, Dover, Delaware, Court of Federal Claims No: 20-0310V

45. Marie Monies, Murphy, North Carolina, Court of Federal Claims No: 20-0311V

46. Franklin Kuczarski, Springfield, Massachusetts, Court of Federal Claims No: 20-0312V

47. Rosa Soto Galvan, Berwyn, Illinois, Court of Federal Claims No: 20-0313V

48. Debra Centifonti, Mount Holly, New Jersey, Court of Federal Claims No: 20-0314V

49. Frances Felipe on behalf of K. C., LaJunta, Colorado, Court of Federal Claims No: 20-0319V

50. Paul Hagenswold, Denison, Texas, Court of Federal Claims No: 20-0320V

51. Rebecca Ray, Muskegon, Michigan, Court of Federal Claims No: 20-0321V

52. George Taylor, Mount Sterling, Kentucky, Court of Federal Claims No: 20-0322V

53. Patricia Lopez, Harlingen, Texas, Court of Federal Claims No: 20-0324V

54. Richard Jones, Queen Creek, Arizona, Court of Federal Claims No: 20-0325V

55. Panos Andonyadis, Richmond, Virginia, Court of Federal Claims No: 20-0326V

56. Robert Alvarado, Tampa, Florida, Court of Federal Claims No: 20-0327V

57. Andrea Anderson on behalf of J. A., Chicago, Illinois, Court of Federal Claims No: 20-0329V

58. Robert Szulya, Alpharetta, Georgia, Court of Federal Claims No: 20-0330V

59. Mary Rybicki, Highlands Ranch, Colorado, Court of Federal Claims No: 20-0332V

60. Brian Larry Atkins, Medora, Indiana, Court of Federal Claims No: 20-0333V

61. Donald Herr, Long Beach, California, Court of Federal Claims No: 20-0334V

62. James Mayhugh, Springfield, Ohio, Court of Federal Claims No: 20-0335V

63. Alexander Galluzzo, Dayton, Ohio, Court of Federal Claims No: 20-0337V

64. Lisa Ahern, Cumberland, Maryland, Court of Federal Claims No: 20-0338V

65. Kaci Richardson, Baytown, Texas, Court of Federal Claims No: 20-0339V

66. Rachel Rutkowski, Tampa, Florida, Court of Federal Claims No: 20-0340V

67. Andre Gargano, Westchester, Illinois, Court of Federal Claims No: 20-0341V

68. Donna Leep, Great Barrington, Massachusetts, Court of Federal Claims No: 20-0342V

69. Barbara Nance, Bowie, Maryland, Court of Federal Claims No: 20-0344V

70. Brian Lang, Boston, Massachusetts, Court of Federal Claims No: 20-0347V

71. Sheri Conerty, Springboro, Ohio, Court of Federal Claims No: 20-0348V

72. Julia DiPiazza, Moore, Oklahoma, Court of Federal Claims No: 20-0349V

73. Kristina Pearson, Dover, Pennsylvania, Court of Federal Claims No: 20-0350V

74. Renato Barrozo, Golden Valley, Minnesota, Court of Federal Claims No: 20-0351V

75. James Wetzel, Kingston, New York, Court of Federal Claims No: 20-0352V

76. Lisa Blunt, Salem, New Hampshire, Court of Federal Claims No: 20-0353V

77. Elsie Carter, Raleigh, North Carolina, Court of Federal Claims No: 20-0355V

78. Robert Viner, Perry Hall, Maryland, Court of Federal Claims No: 20-0357V

79. John Miles, Williamsville, New York, Court of Federal Claims No: 20-0360V

80. Stefanie Partridge, Manteca, California, Court of Federal Claims No: 20-0361V

81. Rhonda Ury, Mission Viejo, California, Court of Federal Claims No: 20-0363V

82. Lisa Hull-Crawford, Springfield, Illinois, Court of Federal Claims No: 20-0364V

83. Derek Strand, Boston, Massachusetts, Court of Federal Claims No: 20-0365V

84. Amanullah Aman, Glen Ellyn, Illinois, Court of Federal Claims No: 20-0366V

85. Adrian Williams, Metairie, Louisiana, Court of Federal Claims No: 20-0367V

[FR Doc. 2020-08063 Filed 4-15-20; 8:45 am]

BILLING CODE 4165-15-P